DEPARTMENT OF STATE

[Public Notice 6484]

Office of the Chief of Protocol; Gifts to Federal Employees From Foreign Government Sources Reported to Employing Agencies in Calendar Year 2007; Correction

AGENCY: Department of State.

ACTION: Notice; Correction.

SUMMARY: This document contains a correction to the Notice “Gifts to Federal Employees From Foreign Government Sources Reported to Employing Agencies in Calendar Year 2007” published in the Federal Register on December 2, 2008, in FR Volume 73, Number 246. This notice is a request to change the identity of the foreign donor and government of a gift given to the Honorable Condoleezza Rice, Secretary of State of the United States, on January 5, 2007.

FOR FURTHER INFORMATION CONTACT: Tiffany Divis, Senior Gifts Officer and Special Assistant, Office of the Chief of Protocol, 2201 C Street, NW., Suite 1238, Washington, DC 20520, office number 202-647-1161.

Correction

In the Federal Register of December 2, 2008, in FR Volume 73, on page 78493, in the third column, correct the sixth paragraph to read:

The Custodian of the Two Holy Mosques King Abdullah Bin Abdul Aziz Al Saud, King of the Kingdom of Saudi Arabia.

Dated: January 9, 2009.
Patrick F. Kennedy,
Under Secretary for Management, Department of State.

[FR Doc. E9-969 Filed 1-16-09; 8:45 am]

BILLING CODE 4710-20-P